NUCLEAR REGULATORY COMMISSION

Documents Containing Reporting or Recordkeeping Requirements: Office of Management and Budget (OMB) Review

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35).

1. Type of submission, new, revision, or extension: Extension.

2. The title of the information collection: 10 CFR part 110—Rules and Regulations for the Export and Import of Nuclear Equipment and Material.

3. The form number, if applicable: 3150-0036.

4. How often the collection is required: On occasion.

5. Who is required or asked to report: Any person in the U.S. who wishes to export or import nuclear material and equipment subject to the requirements of 10 CFR 110 or to export incidental radioactive material that is a contaminant of shipments of more than 100 kilograms of non-waste material using existing NRC general licenses.

6. An estimate of the number of responses: 100.

7. The estimated number of annual respondents: 125.

8. An estimate of the total hours needed annually to complete the requirement or request: reporting, 130 hours (1.3 hours per response); recordkeeping, 150 hours (1.2 hours per respondent). The total burden is 280 hours.

9. An indication of whether Section 3507(d), Pub. L. 104-13 applies: Not applicable.

10. Abstract: 10 CFR 110 provides application, reporting, and recordkeeping requirements for exports and imports of nuclear material and equipment subject to the requirements of a specific license or a general license and exports of incidental radioactive material. The information collected and maintained pursuant to 10 CFR 110 enables the NRC to authorize only imports and exports which are not inimical to U.S. common defense and security and which meet applicable statutory, regulatory, and policy requirements.

A copy of the supporting statement may be viewed free of charge at the NRC Public Document Room, 2120 L Street NW, (lower level), Washington, DC. OMB clearance requests are available at the NRC worldwide web site (http://www.nrc.gov/NRC/PUBLIC/OMB/index.html). The document will be available on the NRC home page site for 60 days after the signature date of this notice.

Comments and questions should be directed to the OMB reviewer listed below by April 21, 2000.

Erik Godwin, Office of Information and Regulatory Affairs (3150-0036), NEOB-10202, Office of Management and Budget,Washington, D.C. 20503.

Comments can also be submitted by telephone at (202) 395-3087.

The NRC Clearance Officer is Brenda Jo. Shelton, 301-415-7233.

Dated at Rockville, Maryland, this 15th day of March, 2000.
For the Nuclear Regulatory Commission.
Brenda Jo. Shelton,
NRC Clearance Officer, Office of the Chief Information Officer

[FR Doc. 00-7099 Filed 3-21-00; 8:45 am]

BILLING CODE 7590-01-P